SURFACE TRANSPORTATION BOARD

[Docket No. FD 36144]

Scrap Metal Services Terminal Railroad Company (Illinois), LLC—Lease and Operation Exemption—Rail Line of Scrap Metal Services, LLC

Scrap Metal Services Terminal Railroad Company (Illinois), LLC (SMSRRIL), a noncarrier, has filed a verified notice of exemption under 49 CFR 1150.31 to acquire by lease from Scrap Metal Services, LLC (SMS), and to operate,¹ approximately 1,613 linear feet (0.305 mile) of railroad right-of-way and trackage located at the Burnham Transload Facility at the intersection of Brainard Avenue and the Indiana Harbor Belt Railroad right-of-way in Burnham, Ill. (the Burnham Transload Facility trackage), pursuant to an agreement. SMS Realty (Burnham), LLC, owns the Burnham Transload Facility trackage, which is leased to SMS.

¹ A draft copy of the operating agreement was submitted with the notice of exemption.

According to SMSRRIL, there are no mileposts associated with the Burnham Transload Facility trackage. SMSRRIL states that the trackage is used in conjunction with interchanging to and from Indiana Harbor Belt Railroad carloads of scrap metals for transloading into trucks for delivery to steel producing mills.

SMSRRIL asserts that, because the trackage in question will constitute the entire line of railroad of SMSRRIL, this trackage is a line of railroad under 49 U.S.C. 10901, rather than spur, switching, or side tracks excepted from Board acquisition and operation authority by virtue of 49 U.S.C. 10906.²

² See Effingham R.R.—Pet. for Declaratory Order—Constr. at Effingham, Ill., 2 S.T.B. 606, 609-10 (STB served Sept. 12, 1997), aff'd sub nom. United Transp. Union-Illinois Legislative Bd. v. STB, 183 F.3d 606 (7th Cir. 1999).

Although SMSRRIL states in its verified notice that the operations were proposed to be consummated on or about September 1, 2017, this transaction may not be consummated until October 12, 2017 (30 days after the verified notice was filed).

SMSRRIL certifies that its projected annual revenues as a result of this transaction do not exceed those that would qualify it as a Class III rail carrier and will not exceed $5 million. SMSRRIL also certifies that there are no provisions or agreements that may limit future interchange commitments.

If the verified notice contains false or misleading information, the exemption is void ab initio. Petitions to revoke the exemption under 49 U.S.C. 10502(d) may be filed at any time. The filing of a petition to revoke will not automatically stay the effectiveness of the exemption. Petitions to stay must be filed no later than October 5, 2017 (at least seven days before the exemption becomes effective).

An original and 10 copies of all pleadings, referring to Docket No. FD 36144, must be filed with the Surface Transportation Board, 395 E Street SW., Washington, DC 20423-0001. In addition, a copy of each pleading must be served on SMSRRIL's representative, David C. Dillon, Dillon & Nash, Ltd., 3100 Dundee Road, Suite 508, Northbrook, IL 60062.

According to SMSRRIL, this action is categorically excluded from environmental review under 49 CFR 1105.6(c).

Board decisions and notices are available on our Web site at “WWW.STB.GOV.”

Decided: September 25, 2017.
By the Board, Scott M. Zimmerman, Acting Director, Office of Proceedings.
Kenyatta Clay,
Clearance Clerk.

[FR Doc. 2017-20784 Filed 9-27-17; 8:45 am]

BILLING CODE 4915-01-P